INTERNATIONAL TRADE COMMISSION

[Investigation No. 332-542, Investigation No. 332-544, Investigation No. 332-545, Investigation No. 332-546]

AGOA: Trade and Investment Performance Overview; AGOA: Economic Effects of Providing Duty-Free Treatment for Imports, U.S. AGOA Rules of Origin: Possible Changes To Promote Regional Integration and Increase Exports to the United States; EU-South Africa FTA: Impact on U.S. Exports to South Africa

AGENCY: United States International Trade Commission.

ACTION: Institution of investigations, scheduling of public hearing, and opportunity to provide written submissions.

SUMMARY: Following receipt of a request dated September 30, 2013 (received October 17, 2013) from the United States Trade Representative (USTR) under section 332(g) of the Tariff Act of 1930 (19 U.S.C. 1332(g)), the U.S. International Trade Commission (Commission) instituted four investigations for the purpose of providing the requested information: investigation No. 332-542, AGOA: Trade and Investment Performance Overview; investigation No. 332-544, AGOA: Economic Effects of Providing Duty-Free Treatment for Imports; investigation No. 332-545, U.S. AGOA Rules of Origin: Possible Changes to Promote Regional Integration and Increase Exports to the United States; and investigation No. 332-546, EU-South Africa FTA: Impact on U.S. Exports to South Africa.

DATES:

December 13, 2013: Deadline for filing requests to appear at the public hearing.

December 17, 2013: Deadline for filing pre-hearing briefs and statements.

January 14, 2014: Public hearing.

January 21, 2014: Deadline for filing post-hearing briefs and statements.

January 21, 2014: Deadline for filing all other written submissions.

April 17, 2014: Transmittal to USTR of Commission reports on investigation Nos. 332-542, 332-544, and 332-546.

April 30, 2014: Transmittal to USTR of report on Commission investigation No. 332-545.

ADDRESSES: All Commission offices, including the Commission's hearing rooms, are located in the United States International Trade Commission Building, 500 E Street SW., Washington, DC. All written submissions should be addressed to the Secretary, United States International Trade Commission, 500 E Street SW., Washington, DC 20436. The public record for these investigations may be viewed on the Commission's electronic docket (EDIS) at https://edis.usitc.gov/edis3-internal/app.

FOR FURTHER INFORMATION CONTACT: For information with respect to specific investigations:

(1) Investigation No. 332-542, Project Leader Joanna Bonarriva (202-205-3312 or Joanna.Bonarriva@usitc.gov) or Deputy Project Leader Joanne Guth (202-205-3264 or Joanne.Guth@usitc.gov);

(2) Investigation No. 332-544, Project Leader Kathryn Lundquist (202-205-2563 or Kathryn.Lundquist@usitc.gov) or Deputy Project Leader Andrew David (202-205-3368 or Andrew.David@usitc.gov);

(3) Investigation No. 332-545, Project Leader Deborah McNay (202-205-3425 or Deborah.McNay@usitc.gov) or Deputy Project Leader Heidi Colby-Oizumi (202-205-3391 or Heidi.Colby@usitc.gov);

(4) Investigation No. 332-546, Project Leader David Riker (202-205-2201 or David.Riker@usitc.gov) or Deputy Project Leader Kyle Johnson (202-205-3229 or Kyle.Johnson@usitc.gov).

For information on the legal aspect of each of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested, the Commission has instituted four investigations for the purpose of providing four reports as follows:

Investigation No. 332-542, AGOA: Trade and Investment Performance Overview

In its first report (investigation No. 332-542), the Commission will, as requested by the USTR, address the following topics for sub-Saharan African countries, as defined in the African Growth and Opportunity Act (19 U.S.C. 3701 et seq.) (AGOA), and, where applicable, those AGOA beneficiary countries that are designated as lesser developed beneficiary countries, covering the period 2000-13:

• AGOA trade performance, utilization and competitiveness factors, including (1) a review of the literature on the AGOA preference program, in terms of expanding and diversifying the exports of AGOA beneficiary countries to the United States, compared to preference programs offered by third parties such as the EU; (2) identification of non-crude petroleum sectors (i.e., manufacturing and agricultural) in AGOA beneficiary countries in which exports to the United States, under AGOA and under the U.S. Generalized System of Preferences program, have increased the most, in absolute terms, since 2000, and the key factors behind this growth; (3) a description of the main factors affecting AGOA trade in the principal non-crude petroleum products that AGOA beneficiary countries export and that the United States principally imports from non-sub-Saharan African sources; and (4) based on a review of literature, identification of products with potential for integration into regional or global supply chains, and export potential to the United States under AGOA, as well as factors that affect AGOA beneficiary countries' competitiveness in these sectors.

• AGOA's effects on the business and investment climate in sub-Saharan Africa, including (1) the identification and description of changes, if any, in the business and investment climates in sub-Saharan African countries since 2000, including removal of barriers to domestic and foreign investment; and (2) a description of U.S. goods and services-related investment trends in sub-Saharan African countries since 2000 and a comparison of these trends with investments by other countries in sub-Saharan African countries, including investments by the EU, China, Brazil, and India, and identification of any links between these investment trends and the AGOA program.

• Current or potential reciprocal trade agreements between sub-Saharan African and non-sub-Saharan African partners and the relationship of these agreements to the objectives of AGOA, including (1) a list of reciprocal trade agreements that sub-Saharan African countries have completed or are under negotiation, a brief description of areas covered or likely to be covered under the agreements, and identification of U.S. sectors/products impacted or potentially impacted, including any tariff differentials; and (2) examples of developing countries that have moved from unilateral trade preferences to reciprocal trade agreements, and any effects of the change for the developing country in terms of expansion and diversification of its trade.

The Commission will deliver this first report to the USTR by April 17, 2014. The USTR also stated that it intends to make this report public.

Investigation No. 332-544, AGOA: Economic Effects of Providing Duty-Free Treatment for Imports

In its second report the Commission will, as requested by the USTR, provide an assessment of the economic effects of providing duty-free treatment for imports of products from AGOA beneficiary countries on U.S. industries producing like or directly competitive products and on U.S. consumers. The report will include an assessment of the economic effect on U.S. industries and consumers of imports of articles already eligible for duty-free treatment under AGOA, as well as an assessment of the probable economic effect on U.S. industries and consumers of the extension of duty-free treatment to the remaining articles in chapters 1 through 97 of the Harmonized Tariff Schedule of the United States (HTS). The assessment will take into account implementation of U.S. commitments in the World Trade Organization and will be based on the HTS in effect during 2013 and trade data for 2012.

The Commission will provide this second report to the USTR by April 17, 2014. The USTR stated that this report will be classified.

Investigation No. 332-545, U.S. AGOA Rules of Origin: Possible Changes To Promote Regional Integration and Increase Exports to the United States

As requested by the USTR, in its third report the Commission will, to the extent practicable, identify possible changes to the rules of origin under AGOA that could have the potential to promote regional integration and increase exports to the United States, and the leading manufactured or processed goods (non-petroleum) which might benefit from such changes.

The Commission will provide this third report to the USTR by April 30, 2014. The USTR stated that this report will be classified.

Investigation No. 332-546, EU-South Africa FTA: Impact on U.S. Exports to South Africa

As requested by the USTR, in its fourth report the Commission will, to the extent practicable, provide an assessment of the impact of the EU-South Africa Free Trade Agreement on U.S. exports to South Africa.

This analysis will also identify the U.S. sectors/products with potential for increased U.S. exports if South Africa were to reduce its MFN tariffs for those U.S. products to the tariff levels of the EU-South Africa FTA.

The Commission will provide this fourth report to the USTR by April 17, 2014. The USTR stated that this report will be classified.

The USTR indicated that those sections of the Commission's three confidential reports that relate to assessments and analyses will be classified. The USTR also indicated that he considers the Commission's three confidential reports to be inter-agency memoranda that will contain pre-decisional advice and be subject to the deliberative process privilege.

Public Hearing: A public hearing in connection with these investigations will be held at the U.S. International Trade Commission Building, 500 E Street SW., Washington, DC, beginning at 9:30 a.m. on January 14, 2014. Requests to appear at the public hearing should be filed with the Secretary no later than 5:15 p.m., December 13, 2013. All pre-hearing briefs and statements should be filed no later than 5:15 p.m. December 17, 2013; and all post-hearing briefs and statements should be filed no later than 5:15 p.m. January 21, 2014. All such briefs and statements should otherwise comply with the filing requirements in the “Submissions” section below. In the event that, as of the close of business on December 13, 2013, no witnesses are scheduled to appear at the hearing, the hearing will be canceled. Any person interested in attending the hearing as an observer or nonparticipant should contact the Office of the Secretary at 202-205-2000 after December 13, 2013, for information concerning whether the hearing will be held.

Written Submissions: In lieu of or in addition to participating in the hearing, interested parties are invited to file written submissions concerning any of the four investigations. Each written submission should identify the one or more of the four investigations to which the submission relates. All written submissions should be addressed to the Secretary, and should be received not later than 5:15 p.m., January 21, 2014. All written submissions must conform to the provisions of section 201.8 of the Commission's Rules of Practice and Procedure (19 CFR 201.8). Section 201.8 and the Commission's Handbook on Filing Procedures require that interested parties file documents electronically on or before the filing deadline and submit eight (8) true paper copies by 12:00 noon eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information (CBI) must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties. In his request letter the USTR said that it is the intent of his office to make the Commission's report in the first investigation, No. 332-542 AGOA: Trade and Investment Performance Overview, available to the public in its entirety, and asked that the Commission not include any confidential business information or national security classified information in the report that it sends to the USTR. Any confidential business information received by the Commission in this investigation and used in preparing this report will not be published in a manner that would reveal the operations of the firm supplying the information. The Commission may include some or all of the confidential business information submitted in the course of investigation Nos. 332-544, 332-545, and 332-546 in the reports it sends to the USTR in those investigations. The Commission will not otherwise publish any confidential business information in a manner that would reveal the operations of the firm supplying the information.

By order of the Commission.
Issued: November 13, 2013.
Lisa R. Barton,
Acting Secretary to the Commission.

[FR Doc. 2013-27575 Filed 11-18-13; 8:45 am]

BILLING CODE 7020-02-P